DEPARTMENT OF COMMERCE

International Trade Administration

[A-570-601]

Tapered Roller Bearings and Parts Thereof, Finished and Unfinished, From the People's Republic of China; Amended Final Results of Antidumping Administrative Review

AGENCY: Import Administration, International Trade Administration, United States Department of Commerce.

ACTION: Notice of amended final results of administrative review.

SUMMARY: The United States Court of International Trade has affirmed the Department of Commerce's final remand results affecting the final weighted-average margins for the 1994/1995 administrative review of the antidumping duty order on tapered roller bearings and parts thereof, finished and unfinished, from the People's Republic of China. There was no appeal to the United States Court of Appeals for the Federal Circuit. As there is now a final and conclusive court decision in this case, we are amending the final results of review and we will instruct the Customs Service to liquidate entries subject to this review. The period of review is June 1, 1994, through May 31, 1995.

EFFECTIVE DATE: December 3, 2001.

FOR FURTHER INFORMATION CONTACT: George Callen or Richard Rimlinger, AD/CVD Enforcement 3, Import Administration, International Trade Administration, U.S. Department of Commerce, 14th Street and Constitution Avenue, NW., Washington, DC 20230; telephone (202) 482-0180 or (202) 482-4477, respectively.

SUPPLEMENTARY INFORMATION:

Applicable Statute

Unless otherwise indicated, all citations to the Tariff Act of 1930, as amended (the Act), are references to the provisions in effect as of December 31, 1994.

Background

On February 11, 1997, the Department published the final results of administrative review of the antidumping duty order on tapered roller bearings and parts thereof, finished and unfinished (TRBs), from the People's Republic of China covering the period June 1, 1994, through May 31, 1995. See Tapered Roller Bearings and Parts Thereof, Finished and Unfinished, From the People's Republic of China, Final Results of Antidumping Duty Administrative Review, 62 FR 6173 (February 11, 1997) (Final Results).

The Timken Company contested the Department's decision in the Final Results. In issuing its decision in this case, the United States Court of International Trade (CIT) instructed the Department to make the following changes to its margin calculations for the Final Results: (1) Eliminate from the cost-of-manufacture calculation the category “purchases of traded goods” and (2) recalculate marine insurance expense on a value rather than weight basis. See Timken Company v. United States, Court No. 97-01-00394, Slip Op. 99-73 (CIT July 30, 1999). The Department issued final results of redetermination on remand on December 13, 1999. The CIT affirmed the Department's final remand results and dismissed the case. See Timken Company v. United States, Slip Op. 200-13 (CIT February 8, 2000).

There was no appeal to the United States Court of Appeals for the Federal Circuit. As there is now a final and conclusive court decision in this action, we are amending our final results of review and we will instruct the Customs Service to liquidate entries subject to this review.

Amendment to Final Results

Pursuant to section 516A(e) of the Act, we are now amending the final results of administrative review of the antidumping duty order on TRBs from the People's Republic of China for the period of review June 1, 1994, through May 31, 1995. The revised weighted-average margins are as follows:

Company | Margin
Premier Bearing and Equipment, Ltd. | 2.89
Tianshui Hailin Import and Export Corporation | 25.63
Zhejiang Machinery Import and Export Corporation | 3.04
East Sea Bearing Company, Ltd. | 3.60

Accordingly, the Department will determine and the Customs Service will assess appropriate antidumping duties on entries of the subject merchandise exported by firms covered by this review. Weighted-average margins for other respondent companies and the PRC-wide rate for others remain as published in the Final Results.

We are issuing and publishing this determination in accordance with section 751(a) of the Act.

Dated: November 21, 2001.
Faryar Shirzad,
Assistant Secretary for Import Administration.

[FR Doc. 01-29891 Filed 11-30-01; 8:45 am]

BILLING CODE 3510-DS-P